DEPARTMENT OF ENERGY

Federal Energy Regulatory Commission

[Docket No. EC03-15-000, et al.]

Entergy Power Generation Corporation, et al. Electric Rate and Corporate Regulation Filings

November 12, 2002.

The following filings have been made with the Commission. The filings are listed in ascending order within each docket classification.

1. Entergy Power Generation Corporation, et al.

[Docket No. EC03-15-000]

Take notice that on November 6, 2002, Entergy Power Generation Corporation (EPGC), on behalf of itself and Entergy Asset Management, Inc. (EAM), Entergy Power Crete Corporation, Entergy Power Ventures, L.P. (EPV), Entergy Power Ventures Corp II (Ventures II), Entergy Power Warren Corporation I, and Warren Power, LLC (WP) tendered for filing an application requesting all necessary authorizations under Section 203 of the Federal Power Act to engage in a corporate reorganization. Under the terms of the proposed reorganization, interests in EPV, Crete Energy Venture, LLC, and WP, currently indirectly held by EPGC, would be transferred to EAM, a subsidiary of EPGC, in exchange for EAM stock. EPV owns a 70 percent interest in an approximately 550 megawatt (MW) generating facility under construction in Harrison County, Texas. Crete Energy Venture, LLC owns an approximately 320 MW generation facility located in Crete, Illinois. WP owns an approximately 300 MW generation facility located in Vicksburg, Mississippi.

Copies of this filing have been served on the Arkansas Public Service Commission, the Louisiana Public Service Commission, the City Council of New Orleans, the Mississippi Public Service Commission, and the Texas Public Utility Commission.

Comment Date: November 27, 2002.

2. American Ref-Fuel Company of Essex County

[Docket No. EG98-75-000]

On November 7, 2002, American Ref-Fuel Company of Essex County tendered for filing information with respect to a change in facts relative to its status as an exempt wholesale generator and a demonstration that such change does not affect its status as an exempt wholesale generator pursuant to Section 32(a) of the Public Utility Holding Company Act of 1935, as amended, and Section 365.8 of the Commission?s Regulations.

Comment Date: December 3, 2002.

3. Conectiv Pennsylvania Generation, Inc.

[Docket No. EG03-14-000]

Take notice that on November 7, 2002, Conectiv Pennsylvania Generation, Inc. (CPG) filed an Application for Determination of Exempt Wholesale Generator Status (Application) pursuant to Section 32(a)(1) of the Public Utility Holding Company Act of 1935 (PUHCA), all as more fully explained in the Application.

CPG either owns or has on order seven natural gas-fired combustion turbines that will be operated as components of three separate 500 MW combined cycle generating modules (the Eligible Facilities for the purposes of PUHCA and the Commission?s EWG regulations). While no specific site or sites have been selected for the location of the Eligible Facilities, it is anticipated that they will be interconnected to the transmission system operated by the PJM Interconnection, LLC via transmission voltage facilities. CPG has served this filing on the Maryland Public Service Commission, Delaware Public Service Commission, New Jersey Board of Public Utilities, Virginia State Corporation Commission, District of Columbia Public Service Commission and the Securities and Exchange Commission (SEC).

Comment Date: December 3, 2002.

4. Minnesota Power

[Docket No. ER02-2587-001]

Take notice that on November 7, 2002, Minnesota Power tendered for filing an amendment to the Wholesale First Revised Rate Schedule, FERC No. 153 for Dahlberg Light & Power Company. The amendment includes the Commission?s Order No. 84 adder for Third-Party purchase and resale transactions and therefore are subject to FERC Order No. 84.

Comment Date: November 29, 2002.

5. Reliant Energy Mid-Atlantic Power Holdings, LLC

[Docket No. ER02-2600-000]

Take notice that on November 6, 2002 Reliant Energy Mid-Atlantic Power Holdings, LLC (REMPH) filed an amended notice of the cancellation of the FERC Electric Rate Schedule No. 1 for Sithe Warren LLC (the Warren Station). REMPH states that the cancellation results from the decommissioning of the units at the Warren Station and will be effective on September 30, 2002.

Comment Date: November 27, 2002.

6. Northwest Regional Transmission Association

[Docket No. ER03-162-000]

Take notice that on November 5, 2002, the Northwest Regional Transmission Association (NRTA) tendered for filing a Second Revised Sheet No. 53 (superseding both Original and First Revised Sheets No. 53) of the Governing Agreement of the Northwest Regional Transmission Association (NRTA). This filing revises NRTA?s filing of August 23, 2000 under Docket No. ER99-4508-001, by which NRTA submitted its entire Governing Agreement (including an index of customers) as Northwest Regional Transmission Organization First Revised Electric Rate Schedule FERC No.1 in compliance with Order No. 614, Docket No. RM99-12-000, 90 FERC 61,352, issued March 31, 2000.

NRTA is submitting the enclosed Second Revised Sheet No. 53 of its Governing Agreement because NRTA?s membership has changed. Specifically, Kootenai Electric Coop, Kaiser Aluminum & Chemical Corporation, Columbia Falls Aluminum Company and Tenaska Power Services Company have withdrawn from NRTA. Montana Power Company has become NorthWestern Energy and PECO Energy Power Team has become Exelon Corporation. Finally, the enclosed Second Revised Sheet No. 53 reflects the NRTA membership of B.C. Ministry of Energy, Oregon Department of Energy and Washington Utilities and Transportation Commission. NRTA?s index of customers is revised to reflect all of these matters.

Comment Date: November 26, 2002.

7. Duke Energy Corporation

[Docket No. ER03-163-000]

Take notice that on November 5, 2002, Duke Energy Corporation filed revisions to the Appendices to a contract between Duke Energy Corporation and the Southeastern Power Administration.

Comment Date: November 26, 2002.

8. Entergy Services, Inc.

[Docket No. ER03-164-000]

Take notice that on November 5, 2002, Entergy Services, Inc., on behalf of Entergy Mississippi, Inc. (Entergy Mississippi), tendered for filing six copies of a Notice of Termination of the Interconnection and Operating Agreement and Generator Imbalance Agreement between Entergy Mississippi and MissChem Nitrogen, L.L.C.

Comment Date: November 26, 2002.

9. American Ref-Fuel Company of Essex County

[Docket No. ER03-170-000]

Take notice that on November 7, 2002, American Ref-Fuel Company of Essex County (ARC Essex) tendered for filing an application for blanket authorizations, certain waivers, to reassign transmission rights, to resell firm transmission rights, and authorization to sell energy, capacity and ancillary services as market-based rates pursuant to section 205 of the Federal Power Act.

Comment Date: November 29, 2002.

10. Basin Electric Cooperative, Inc.

[Docket Nos. NJ00-7-001, NJ01-6-001 and NJ01-8-001]

Take notice that on November 7, 2002, Basin Electric Power Cooperative, Inc. filed an amendment to its standards of conduct procedures in the above-captioned proceedings. Basin Electric requests that the Commission declare the open access tariff that it filed in the above-captioned proceedings is an acceptable reciprocity tariff under Order No. 888.

Copies of the filing were served upon Basin Electric's transmission customers.

Comment Date: November 29, 2002.

11. Riverside Energy Center, LLC

[Docket No. ES03-11-000]

Take notice that on October 31, 2002, Riverside Energy Center, LLC (Riverside) submitted an application pursuant to section 204 of the Federal Power Act seeking authorization to issue long-term debt securities in an amount not to exceed $300 million under a credit facility.

Riverside also requests a waiver of the Commission?s competitive bidding requirement under 18 CFR 34.2.

Comment Date: November 29, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-29153 Filed 11-18-02; 8:45 am]

BILLING CODE 6717-01-P